DEPARTMENT OF AGRICULTURE

Agricultural Marketing Service

7 CFR Part 984

Walnuts Grown in California

CFR Correction

In Title 7 of the Code of Federal Regulations, Parts 900 to 999, revised as of January 1, 2015, on page 512, in § 984.450, at the end of paragraph (b), add the word “walnuts” followed by a period.

[FR Doc. 2015-33016 Filed 12-30-15; 8:45 am]

BILLING CODE 1505-01-D